NATIONAL AERONAUTICS AND SPACE ADMINISTRATION

[Notice (09-031)]

National Environmental Policy Act; Wallops Flight Facility Shoreline Restoration and Infrastructure Protection Program

AGENCY: National Aeronautics and Space Administration.

ACTION: Notice of intent to prepare an Environmental Impact Statement (EIS) and to conduct scoping for the Wallops Flight Facility Shoreline Restoration and Infrastructure Protection Program (SRIPP).

SUMMARY: Pursuant to the National Environmental Policy Act, as amended, (NEPA) (42 U.S.C. 4321 et seq.), the Council on Environmental Quality Regulations for Implementing the Procedural Provisions of NEPA (40 CFR Parts 1500-1508), and NASA's NEPA policy and procedures (14 CFR Part 1216, subpart 1216.3), NASA intends to prepare an EIS for the implementation of a long-term SRIPP at Wallops Flight Facility (WFF). The U.S. Minerals Management Service (MMS) and the U.S. Army Corps of Engineers, Norfolk District, have been asked to participate as Cooperating Agencies as they possess both regulatory authority and specialized expertise pertaining to the Proposed Action. MMS has recently accepted NASA's request and will serve as a Cooperating Agency in the preparation of this EIS.

In May 2007, NASA released for public comment a Draft Programmatic Environmental Assessment for Goddard Space Flight Center's Wallops Flight Facility, Shoreline Restoration and Infrastructure Protection Program. Since that time, NASA's Proposed Action has changed and NASA will now prepare an EIS for the Proposed Action currently under consideration.

The SRIPP would be implemented to restore the Wallops Island shoreline and to protect the over $800 million in Federal and state assets on Wallops Island that are increasingly at risk from larger than normal storm events, storm waves, and flooding damage. The design and implementation of a solution to provide Wallops Island infrastructure with the necessary protection from both storm energy and flooding form the basis of the Proposed Action and alternatives to be analyzed in the WFF SRIPP EIS. The project's design lifespan would be fifty (50) years. The No Action Alternative is to not implement the WFF SRIPP, but to continue making emergency repairs to the Wallops Island shoreline as necessary.

NASA will hold a public scoping meeting as part of the NEPA process associated with the development of the EIS. The public meeting location and date identified at this time are provided under SUPPLEMENTARY INFORMATION below.

DATES: Interested parties are invited to submit comments on environmental issues and concerns, preferably in writing, on or before May 11, 2009, to assure full consideration during the scoping process.

ADDRESSES: Comments submitted by mail should be addressed to 250/NEPA Manager, WFF Shoreline Restoration and Infrastructure Protection Program, NASA Goddard Space Flight Center's Wallops Flight Facility, Wallops Island, Virginia 23337. Comments may be submitted via e-mail to wff_shoreline_eis@majordomo.gsfc.nasa.gov.

FOR FURTHER INFORMATION CONTACT: WFF Shoreline Restoration and Infrastructure Protection Program EIS by e-mail addressed to wff_shoreline_eis@majordomo.gsfc.nasa.gov or by mail addressed to 250/NEPA Manager, WFF Shoreline Restoration and Infrastructure Protection Program, NASA Goddard Space Flight Center's Wallops Flight Facility, Wallops Island, Virginia 23337. Additional information about the WFF Shoreline Restoration and Infrastructure Protection Program and NASA's NEPA process may be found on the internet at http://sites.wff.nasa.gov/code250/shoreline_eis.html.

SUPPLEMENTARY INFORMATION: WFF is a NASA Goddard Space Flight Center field installation located in Accomack County on the Eastern Shore of Virginia. As the oldest active launch range in the continental United States and the only range completely under NASA management, WFF has launched over 15,000 orbital and suborbital rockets since its operations began in the early 1940s.

WFF consists of three distinct landmasses totaling nearly 2,630 hectares (6,500 acres)—the Main Base, Wallops Mainland, and Wallops Island. To meet the safety and technical requirements of its various missions, many of WFF's primary launch support facilities reside on Wallops Island (island) which is located directly on the Atlantic Ocean. Even prior to NASA's presence on the island, the landmass has been subject to the effects of shoreline retreat, with measured losses averaging approximately 3.7 meters (12.2 feet) per year since 1857. Since the early 1960s, NASA has implemented several shoreline protection projects on the island that have included construction of wooden groins perpendicular to its shoreline, construction of a rock armor seawall parallel to its shoreline, and placement of dredged material along its shorefront. Despite these efforts, the ocean has continued to encroach substantially toward launch pads, infrastructure, and test and training facilities belonging to NASA, the U.S. Navy, and the Mid-Atlantic Regional Spaceport. In calendar years 2006 and 2007, NASA prepared a Draft SRIPP Programmatic Environmental Assessment to assess a wide variety of shoreline protection and flood control measures on the island. After receiving public comment and carefully considering the objectives of the project, NASA has since modified its Proposed Action and is now preparing an EIS.

At present, the severity of the island's shoreline retreat could cause the interruption of missions supported by the facility and/or permanent loss of capabilities. The SRIPP would help reduce the risk to infrastructure on Wallops Island by restoring the shoreline or providing flood protection for infrastructure on the island.

NASA's Proposed Action would involve an initial construction phase with follow-on maintenance cycles. The initial construction phase would include three distinct elements:

1. Extending its existing rock seawall a maximum of 1,372 meters (4,500 feet) south of its southernmost point;

2. Constructing a rock groin perpendicular to the shoreline in the vicinity of the island's southernmost property boundary; and

3. Placing approximately 2,293,664 cubic meters (three (3) million cubic yards [MCY]) of fill material dredged from either of two shoals located offshore in Federal waters.

The seawall extension would likely be implemented first and would consist of the placement of 1.8-3.6 metric ton (two (2) to four (4) ton) rocks parallel to the island shoreline. Groin construction would likely follow seawall extension and would involve the placement of like-sized rocks perpendicular to the shoreline at approximately the point where Wallops Island meets Assawoman Island. Sand placement would be the final stage of the project and would likely involve removing sand from one of two shoals by hopper dredge and pumping the material onto the beach. Fill placement would likely occur in a south to north direction and could extend as far north as 6.8 kilometers (4.2 miles). Sources of sand under consideration are two shoals, Blackfish Bank and an unnamed shoal, located approximately eight (8) and sixteen (16) kilometers (five (5) and ten (10) miles) offshore, respectively (see Figure).

Subsequent beach renourishment cycles would vary throughout the lifecycle of the Proposed Action. Factors dictating the frequency and magnitude of such actions would include storm severity and frequency as well as availability of funding. Given the dynamic nature of the ocean environment and that exact locations and magnitude of renourishment cycles may fluctuate, additional NEPA documentation for renourishment actions may be prepared in the future as appropriate. For the purpose of this EIS, the renourishment cycle is anticipated to be 764,554 cubic meters (one (1) MCY) every five years.

Alternatives to be considered in this EIS will include, but not necessarily be limited to construction of hard structures only, beach fill only, and various combinations of hard structures and beach fill. The effects of dredging fill material from feasible offshore shoals will also be considered.

NASA anticipates that the areas of potential environmental impact from each alternative of most interest to the public would be: The physical effects on both the seafloor and nearby landmasses, the effects on plants, animals, and their habitat (including threatened and endangered species), the effects on commercial and recreational fisheries, the effects on cultural and historic resources, and the effects on water quality.

NASA plans to hold a public meeting to provide information on the WFF SRIPP EIS and to solicit public comments. The public meeting is scheduled as follows:

—Tuesday, April 21, 2009, at the WFF Visitor Information Center, Route 175, Wallops Island, Virginia, 6 p.m.-9 p.m.

Written public input on alternatives and environmental issues and concerns associated with the WFF SRIPP that should be addressed in the EIS are hereby requested.

Olga M. Dominguez,
Assistant Administrator for Infrastructure.

[FR Doc. E9-6317 Filed 3-23-09; 8:45 am]

BILLING CODE 7510-13-P